DEPARTMENT OF THE INTERIOR

Bureau of Land Management

Fish and Wildlife Service

[21XL1109AF LLUTC03000 L16100000.DS0000 LXSSJ0740000; UTU-93620; 13-08807]

Notice of Availability of the Final Environmental Impact Statement To Consider a Highway Right-of-Way, Amended Habitat Conservation Plan and Issuance of an Incidental Take Permit for the Mojave Desert Tortoise, and Proposed Resource Management Plan Amendments, Washington County, UT

AGENCY: Bureau of Land Management, Interior; Fish and Wildlife Service, Interior.

ACTION: Notice of availability.

SUMMARY: In compliance with the National Environmental Policy Act of 1969 (NEPA), as amended, the Federal Land Policy and Management Act of 1976 (FLPMA), as amended, the Omnibus Public Land Management Act of 2009 (OPLMA), and the Endangered Species Act of 1973 (ESA), as amended, the Bureau of Land Management (BLM) and the United States Fish and Wildlife Service (FWS), as co-lead agencies, announce the availability of the Final Environmental Impact Statement (EIS) to consider a right-of-way (ROW) application (referred to henceforth as the Northern Corridor) submitted by the Utah Department of Transportation (UDOT) and Proposed Amendments to the St. George Field Office and Red Cliffs National Conservation Area (NCA) Resource Management Plans (RMPs).

DATES: The BLM planning regulations state that any person who meets the conditions as described in the regulations may protest the planning-level management actions in the BLM's Proposed Amendments to the RMPs. A person who meets the conditions and files a protest must file the protest within 30 days of the date that the Environmental Protection Agency publishes its Notice of Availability of the Final EIS and Proposed Amendments to the RMPs in the Federal Register.

ADDRESSES: The Final EIS, Proposed Amendments to the RMPs, and amended Habitat Conservation Plan (HCP) are available for review on the BLM ePlanning project website at https://eplanning.blm.gov/eplanning-ui/project/1502103/510. Click the “Documents” link on the left side of the screen to find the electronic versions of these materials. Instructions for filing a protest regarding the Proposed Amendments to the RMPs may be found online at https://www.blm.gov/filing-a-plan-protest and at 43 CFR 1610.5-2.

All protests must be in writing and submitted, as set forth in the DATES and ADDRESSES sections above.

FOR FURTHER INFORMATION CONTACT: Gloria Tibbetts, BLM Color Country District Planning and Environmental Coordinator, telephone: (435) 865-3063; address: 176 DL Sargent Dr., Cedar City, UT 84721; email: BLM_UT_NorthernCorridor@blm.gov. If you would like to request to view a hard copy, please call the St. George Field Office for more information at (435) 688-3200, Monday through Friday, except holidays. For information on the Amended HCP or Incidental Take Permit (ITP) application, please contact Yvette Converse, Field Supervisor, U.S. Fish and Wildlife Service, telephone: (801) 975-3330 ext. 61912; email: utahfieldoffice_esa@fws.gov. Persons who use a telecommunications device for the deaf may call the Federal Relay Service (FRS) at 1-800-877-8339 to leave a message or question for the above individual. The FRS is available 24 hours a day, 7 days a week. Replies are provided during normal business hours.

SUPPLEMENTARY INFORMATION: In compliance with section 10(a)(1)(B) of the ESA, the FWS is considering the issuance of an ITP to Washington County, Utah (County). The ITP would authorize the take of the federally listed as threatened Mojave desert tortoise incidental to covered activities such as residential and commercial development for a 25-year permit term. The application for the permit requires the County to amend its 1995 HCP to current standards and ensure impacts from covered activities and changed circumstances are avoided, minimized, and mitigated to the maximum extent practicable. The 62,000-acre Red Cliffs Desert Reserve (Reserve)—of which approximately 70 percent is now within the congressionally-designated Red Cliffs NCA—was established pursuant to commitments in the 1995 HCP.

On September 4, 2018, UDOT submitted an application for a ROW grant for the Northern Corridor Project north of the City of St. George, Utah, on BLM-administered public and non-Federal lands across the NCA and Reserve. The Reserve was established for the protection of the Mojave desert tortoise under the 1995 Washington County HCP. The NCA was established in 2009 through the passage of OPLMA. The 1995 HCP expired in 2016 and the FWS extended it to allow the County to amend the HCP pursuant to Section 10(a)(1)(B) of the ESA. The FWS received an application for an ITP dated January 30, 2015. The amended HCP includes the proposed Northern Corridor as a changed circumstance, with Reserve Zone 6 as the primary proposed addition to the conservation strategy. The BLM is also proposing amendments to the Red Cliffs NCA and St. George Field Office RMPs that would allow consideration of and mitigation (Reserve Zone 6) for the proposed Northern Corridor Project.

The Final EIS considers four proposed actions: (1) Whether the BLM will approve a 1.9-mile ROW section of the approximately four-mile long Northern Corridor Project that crosses the 62,000-acre Reserve, of which 45,000 acres were congressionally established as the Red Cliffs NCA; (2) Whether the BLM will amend the Red Cliffs NCA RMP to allow for a transportation ROW and/or utility corridor within the NCA; (3) Whether the FWS will issue an ITP for the Mojave desert tortoise for specific land use and land development activities in Washington County; and (4) Whether the BLM will amend the St. George Field Office RMP to modify management on approximately 3,471 acres within a 6,813-acre area (Reserve Zone 6) outside the Reserve and NCA to offset the ROW impacts. The other half of Reserve Zone 6 is primarily owned by the Utah School and Institutional Trust Lands Administration and proposed management of this area is included in the HCP Implementation Agreement and would be generally consistent with similar areas in the Reserve.

Scoping was initiated with the publication of a Notice of Intent in the Federal Register on December 5, 2019 (84 F R 66692). The scoping period was open through January 6, 2020. A public scoping meeting was held in St. George, Utah, on December 17, 2019. The BLM and FWS considered all input received during the scoping period. A summary of the comments received during the scoping period can be found in the Scoping Report posted on the project website at https://eplanning.blm.gov/eplanning-ui/project/1502103/510. The Notice of Availability for the Draft EIS was published on June 12, 2020, (85 FR 35950) initiating a 90-day public comment period. Online public meetings were held on July 16, 2020 and July 21, 2020. In accordance with the John D. Dingell, Jr. Conservation, Management, and Recreation Act of 2019, Public Law 116-9, 16 U.S.C. 7913, and 43 CFR 8364.1, a Notice of Intent was published in the St. George Spectrum newspaper on June 18, 2020, notifying the public of the concurrent comment period for the proposed permanent recreational shooting closure within the proposed Reserve Zone 6 area southwest of St. George, Utah.

Substantive public comments and ongoing agency coordination led to several changes from the Draft EIS, including the addition of: (1) Data and analysis associated with wildfires that occurred within Washington County in 2020, (2) additional conservation measures proposed by UDOT, the County, the BLM, and others to address potential project impacts, (3) preliminary cost estimates for each highway alternative, (4) updates related to lands acquired under the Land and Water Conservation Fund Act, and (5) a distinction between planning-level and implementation-level management actions in the Proposed Amendments to the St. George Field Office RMP. The BLM and FWS responded to substantive comments and made appropriate revisions in the Final EIS or explained why a comment did not warrant a change, as documented in Appendix O of the Final EIS.

The Final EIS considers the impacts of the proposed action, four other alternative highway alignments, and a no action alternative. Under Alternative 1, the No Action Alternative, the BLM would deny UDOT's application for a ROW across the Red Cliffs NCA for the Northern Corridor and would not amend either the Red Cliffs NCA or St. George Field Office RMP. The FWS would deny the County's application for an ITP. The No Action alternative provides a baseline against which to compare the action alternatives in the EIS.

Under Alternative 2, the T-Bone Mesa Alignment, the BLM would issue a ROW grant to UDOT for the Northern Corridor across the NCA skirting the southern edge of T-Bone Mesa. The Red Cliffs NCA RMP would be amended to allow for the ROW and consider designation of a utility corridor along the same route. The ITP would be issued subject to the conservation measures in the amended HCP. The St. George Field Office RMP would be amended to support the conservation measures outlined for Reserve Zone 6 in the amended HCP.

Under Alternative 3, the preferred alternative, the UDOT Application Alignment, the BLM would issue a ROW grant to UDOT across the Red Cliffs NCA for the Northern Corridor for the alignment included in UDOT's ROW application. The Red Cliffs NCA RMP would be amended to allow for the ROW and consider a utility corridor along the same route. The ITP would be issued subject to the conservation measures in the amended HCP. The St. George Field Office RMP would be amended to support the conservation measures outlined for Reserve Zone 6 in the revised HCP.

Under Alternative 4, the Southern Alignment, the BLM would issue a ROW grant to UDOT across the NCA for the Northern Corridor on the Southern Alignment. Under this alternative, the Northern Corridor would more closely follow the southern border of the NCA. The Red Cliffs NCA RMP would be amended to allow for the ROW and to consider a utility corridor along the same route. The ITP would be issued subject to the conservation measures in the amended HCP. The St. George Field Office RMP would be amended to support the conservation measures outlined for Reserve Zone 6 in the revised HCP.

Under Alternative 5, the Red Hills Parkway Expressway Alignment, the BLM would grant necessary ROW amendments to the existing ROW for the Red Hills Parkway to convert Red Hills Parkway into a grade-separate expressway between Highland Drive and Bluff Street. The ITP would be issued subject to the conservation measures in the amended HCP, but the changed circumstance for the Northern Corridor and associated conservation measures would not be implemented. The Red Cliffs NCA and the St. George Field Office RMPs would not be amended because Reserve Zone 6 would not be needed to mitigate for impacts to desert tortoises.

Under Alternative 6, the St. George Boulevard/100 South One-Way Couplet, the BLM would deny UDOT's application for a ROW across the Red Cliffs NCA for the Northern Corridor. Rather, this alternative analyzes a scenario where the City of St. George would convert St. George Boulevard and 100 South to one-way streets. If the City implemented Alternative 6, the two roadways would be converted between I-15 and Bluff Street and the existing interchange with I-15 at St. George Boulevard would be reconfigured and combined with a new interchange at 100 South to provide a split interchange between these two roadways connected by one-way ramps. The ITP would be issued subject to the conservation measures in the amended HCP, but the changed circumstance for the Northern Corridor and associated conservation measures would not be implemented. The Red Cliffs NCA RMP and the St. George Field Office RMP would not be amended.

The BLM and FWS have identified Alternative 3 as the agencies' preferred ROW alignment and ITP issuance alternative, with Alternative B identified as the Proposed Amendments to the Red Cliffs NCA and St. George Field Office RMPs. Identification of these alternatives, however, does not represent a final agency decision.

Authority: Consistent with 40 CFR 1506.13 (2020), this Notice and the EIS are issued under previous NEPA regulations: 40 CFR 1502.9; 40 CFR 1506.6; 40 CFR 1506.10; 43 CFR 46.435; and 43 CFR 1610.2. The BLM also provides this Notice under 43 CFR 8364.1 and 16 U.S.C. 7913. The FWS also provides this Notice under section 10(c) of the ESA (16 U.S.C. 1531 et seq.) and its implementing regulations for ITPs (50 CFR 17.22).

Gregory Sheehan,
State Director.
Noreen Walsh,
Regional Director.

[FR Doc. 2020-24999 Filed 11-12-20; 8:45 am]

BILLING CODE 4310-DQ-P